FEDERAL COMMUNICATIONS COMMISSION

Notice of Public Information Collection(s) Being Reviewed by the Federal Communications Commission, Comments Requested.

August 29, 2001.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before November 5, 2001. If you anticipate that you will be submitting comments, but find it difficult to do so within the period of time allowed by this notice, you should advise the contact listed below as soon as possible.

ADDRESSES: Direct all comments to Les Smith, Federal Communications Commissions, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval No.: 3060-0837.

Title: Application for DTV Broadcast Station License.

Form No.: FCC 302-DTV.

Type of Review: Extension of currently approved collection.

Respondents: Businesses or other for-profit, not-for-profit institutions.

Number of Respondents: 500 license applications, 100 modification applications.

Estimated Hours Per Response: 1.5 hours for license applications, 10 hours for modification applications (2.0 hours applicant; 2 hours attorney, 6 hours contract engineer).

Frequency of Response: On occasion.

Cost to Respondents: $245,000.

Estimated Total Annual Burden: 950 hours.

Needs and Uses: Licensees and permittees of DTV broadcast stations are required to file FCC Form 302-DTV to obtain a new or modified station license, and/or to notify the Commission of certain changes in the licensed facilities of these stations.

The data is used by FCC staff to confirm that the station has been built to terms specified in the outstanding construction permit, and to update FCC station files. Data is then extracted from FCC 302-DTV for inclusion in the subsequent license to operate the station.

Federal Communications Commission.
Magalie Roman Salas,
Secretary.

[FR Doc. 01-22357 Filed 9-5-01; 8:45 am]

BILLING CODE 6712-01-P